DEPARTMENT OF EDUCATION

National Committee on Foreign Medical Education and Accreditation

AGENCY: National Committee on Foreign Medical Education and Accreditation (NCFMEA), U.S. Department of Education.

ACTION: Request for nominations for appointment to serve on the National Committee on Foreign Medical Education and Accreditation (NCFMEA).

SUMMARY: Secretary of Education, Miguel A. Cardona, is seeking nomination(s) of medical experts for appointment of members to fill four NCFMEA member positions.

DATES: Nominations must be received no later than July 13, 2023.

ADDRESSES: Interested persons, stakeholders, or organizations (including individuals seeking reappointment by the Secretary of Education to serve on the NCFMEA) may submit nomination(s), including attachments, to the Secretary via the following method: Via electronic mail to: cmtemgmtoffice@ed.gov. Please note in the email subject line, “NCFMEA Nomination 2023”.

Privacy Act Statement

Purpose: The purpose of collecting nomination information is for the Secretary of Education to review nominations. The Secretary is required by the Higher Education Act of 1965, as amended, to establish a panel of medical experts. The nomination information will be used to evaluate, select, and appoint individuals for membership on the NCFMEA and conduct necessary ethics vetting and ethics training for nominees who are appointed to serve on the NCFMEA. Finally, the nomination information will be used to communicate with nominees and, if appointed, communicate with appointees to conduct the business of the NCFMEA.

Authorities: The collection of the nomination information is authorized by the Educational Technical Assistance Act of 2002 (ETAA) (Pub. L. 107-279; 20 U.S.C. 9605); 5 U.S.C. 301; Public Law 95-521, Ethics in Government Act of 1978; Public Law 101-194, Ethics Reform Act of 1989, as amended; and Executive Orders 12674, 12565, and 11222, as amended.

Routine Use Disclosures: Although the Department does not otherwise anticipate non-consensually disclosing the information you provide outside of the Department, the Department may non-consensually disclose such information pursuant to the published routine uses described in the following System of Records Notices: “Secretary's Communications Control System” (18-01-01), “Employee Conduct—Government Ethics” (18-09-03), and “Executive Branch Confidential Financial Disclosure Reports” (OGE/GOVT-2), the most recent versions of which are located on the Department's “Privacy Act System of Record Notice Issuances (SORN)” web page at www2.ed.gov/notices/ed-pia.html.

Consequences of Failure to Provide Information: Submitting nominations with the requested information in response to this notice is voluntary. You are not required to provide the personally identifiable information requested; however, if you do not, then the Department may not be able to consider the nominee for membership on the NCFMEA.

FOR FURTHER INFORMATION CONTACT: Karen Akins, Committee Management Officer, Office of the Secretary, Office of the White House Liaison, U.S. Department of Education. Telephone: 202-401-3677. Email: cmtemgmtoffice@ed.gov.

If you are deaf, hard of hearing, or have a speech disability and wish to access telecommunications relay services, please dial 7-1-1.

SUPPLEMENTARY INFORMATION: NCFMEA's Statutory Authority and Function: The NCFMEA is authorized per section 102 of the Higher Education Act of 1965, as amended. The Secretary of Education is required by the Higher Education Act of 1965, as amended, to establish a panel of medical experts who shall: evaluate the standards of accreditation applied to foreign medical schools; and determine the comparability of those standards to standards for accreditation applied to United States medical schools. The NCFMEA shall be comprised of 11 voting members, each appointed for a term of service as determined by the Secretary of Education. Due consideration shall be given to the appointment of individuals who are broadly knowledgeable about foreign medical education and accreditation, respected in the educational community, and representative of various constituencies. Per the authorizing legislation for the Committee, one member of the Committee will be a medical student enrolled in an accredited medical school at the time of appointment by the Secretary of Education.

Nomination Process

Interested persons, stakeholders, or organizations (including individuals seeking reappointment) may nominate one or more qualified individuals for membership on the NCFMEA. Please be sure to use the information noted in the ADDRESSES section of this notice. If you would like to nominate an individual or yourself for appointment, please submit the following information:

(a) A cover letter addressed to the Honorable Miguel A. Cardona, Secretary of Education. Please provide in the cover letter, the reason(s) the nominated individual is interested in being selected as a nominee for appointment by the Secretary to serve on the NCFMEA.

Attachments:

(b) A copy of the nominee's resume/curriculum vitae;

(c) Contact information for the nominee (name, title, mailing address, phone number, and email address).

Appointment

After nomination and completion of an ethics review conducted by the U.S. Department of Education-Ethics Division, the term of service for the four individuals appointed by the Secretary will begin on October 1, 2023, and will end on September 30, 2029. When a NCFMEA member's term of service is not completed, the Secretary of Education appoints an individual to serve for the remainder of the term of service of her/his predecessor. No member may serve for a period in excess of three consecutive terms. Members of the Committee will serve as Special Government Employees (SGEs), as defined in 18 U.S.C. 202(a). As SGEs, members are selected for their individual expertise, integrity, impartiality, and experience.

Accessible Format: Upon request to the contact person listed under FOR FURTHER INFORMATION CONTACT, individuals with disabilities can obtain this document in an accessible format. The Department will provide the requestor with an accessible format that may include Rich Text Format (RTF) or text format (txt), a thumb drive, an MP3 file, braille, large print, audiotape or compact disc, or another accessible format.

Electronic Access to This Document: The official version of this document is published in the Federal Register. You may access the official edition of the Federal Register and the Code of Federal Regulations at www.govinfo.gov. At this site, you can view this document, as well as other documents of this Department published in the Federal Register, in text or PDF. To use PDF, you must have Adobe Acrobat Reader, which is available free at the site.

You may also access documents of the Department published in the Federal Register by using the article search feature at: www.federalregister.gov. Specifically, through the advanced search feature at this site, you can limit your search to documents published by the Department.

Miguel A. Cardona,
Secretary of Education.

[FR Doc. 2023-12639 Filed 6-12-23; 8:45 am]

BILLING CODE 4000-01-P